DEPARTMENT OF LABOR

Employment and Training Administration

[NAFTA-4411]

O-Z/Gedney, Pittston, PA; Notice of Termination of Investigation

Pursuant to Title V of the North American Free Trade Agreement Implementation Act and in accordance with Section 250(a), Subchapter D, Chapter 2, Title II of the Trade Act of 1974, as amended (19 U.S.C. 2331), an investigation was initiated on December 27, 2000, in response to a worker petition which was filed by a company official on behalf of workers at O-Z/Gedney, Pittston, Pennsylvania.

The petitioner has requested that the petition be withdrawn. Consequently further investigation in this case would serve no purpose, and the investigation has been terminated.

Signed in Washington, D.C. this 9th day of January, 2001.
Linda G. Poole,
Certifying Officer, Division of Trade Adjustment Assistance.

[FR Doc. 01-3290 Filed 2-7-01; 8:45 am]

BILLING CODE 4510-30-M